SMALL BUSINESS ADMINISTRATION

[Declaration of Disaster #3608]

State of West Virginia (Amendment #1)

In accordance with a notice received from the Department of Homeland Security—Federal Emergency Management Agency—effective August 19, 2004, the above numbered declaration is hereby amended to include Mingo County as a disaster area due to damages caused by severe storms, flooding, and landslides occurring on July 22, 2004, and continuing.

In addition, applications for economic injury loans from small businesses located in the contiguous county of McDowell in the State of West Virginia; Martin and Pike Counties in the Commonwealth of Kentucky; and Buchanan County in the Commonwealth of Virginia may be filed until the specified date at the previously designated location. All other counties contiguous to the above named primary counties have previously been declared.

The numbers assigned to this disaster for economic injury are 9ZP9 for Kentucky and 9ZQ1 for Virginia.

All other information remains the same, i.e., the deadline for filing applications for physical damage is October 5, 2004 and for economic injury the deadline is May 6, 2005.

(Catalog of Federal Domestic Assistance Program Nos. 59002 and 59008).
Dated: August 20, 2004.
Cheri L. Cannon,
Acting Associate Administrator for Disaster Assistance.

[FR Doc. 04-19757 Filed 8-27-04; 8:45 am]

BILLING CODE 8025-01-P